DEPARTMENT OF HEALTH AND HUMAN SERVICES

National Institutes of Health

Center for Scientific Review; Amended Notice of Meeting

Notice is hereby given of a change in the meeting of the Enabling Bioanalytical and Imaging Technologies Study Section, October 7, 2010, 8:30 a.m. to October 8, 2010, 5 p.m., The Westin St Francis Hotel, 400 West Broadway, San Diego, CA, 92101 which was published in the Federal Register on September 13, 2010, 75 FR 55593-55594.

The meeting will be held at The Westin St. Francis, 335 Powell Street, San Francisco, CA 94102. The meeting dates and time remain the same. The meeting is closed to the public.

Dated: September 14, 2010.
Jennifer S. Spaeth,
Director, Office of Federal Advisory Committee Policy.

[FR Doc. 2010-23539 Filed 9-20-10; 8:45 am]

BILLING CODE 4140-01-P